ENVIRONMENTAL PROTECTION AGENCY

40 CFR Part 52

[MN61-01-7286a; MN62-01-7287a; FRL6901-1]

Approval and Promulgation of Implementation Plans; Minnesota Designation of Areas for Air Quality Planning Purposes; Minnesota

Correction

In rule document 01-5850 beginning on page 14087 in the issue of Friday, March 9, 2001, make the following corrections:

§52.1220 [Corrected]

1. On page 14091, in §52.1220(c)(56)(1)(A), in the third column, in the fifth line, “Utilities-Lake Plant” should read “Utilities-Silver Lake Plant”.

2. On the same page, in the same column, in §52.1220(c)(56)(i)(F), in the second line, “Permit No. 1183-83-OT-1” should read “Permit No. 1148-83-OT-1”.

[FR Doc. C1-5850 Filed 3-29-01; 8:45 am]

BILLING CODE 1505-01-D

NUCLEAR REGULATORY COMMISSION

Application for a License To Export Radioactive Waste

Correction

In notice document 01-6813 appearing on page 15772 in the issue of Tuesday, March 20, 2001, make the following corrections:

1. In the table, in the third column, under the heading “Total qty”, in the second line, “500.9” should read “50.0”.

2. In the same table, in the fourth column, under the heading “End use”, in the second paragraph, in the first line, “Extended” should read “Extend”.

3. In the same table, in the fifth column, the heading “Country or designation”, should read, “Country of designation”.

[FR Doc. C1-6813 Filed 3-29-01; 8:45 am]

BILLING CODE 1505-01-D

DEPARTMENT OF TRANSPORTATION

Coast Guard

33 CFR Part 165

[CGD01-00-221]

RIN 2115-AA97

Safety Zone: New York Harbor, Western Long Island Sound, East River, and Hudson River Fireworks

Correction

In rule document 01-7077 beginning on page 15997 in the issue of Thursday, March 22, 2001 make the following correction:

§165.168 [Corrected]

On page 16000, in §165.168(b), in the second column, in the fourth line, add five asterisks “(*****)” at the end of the sentence.

[FR Doc. C1-7077 Filed 3-29-01; 8:45 am]

BILLING CODE 1505-01-D

DEPARTMENT OF THE TREASURY

Internal Revenue Service

26 CFR Parts 1 and 602

[TD 8940]

RIN 1545-AY73

Purchase Price Allocations in Deemed Actual Asset Acquisitions

Correction

In rule document 01-981 beginning on page 9925 in the issue of Tuesday, February 13, 2001 make the following corrections:

PARTS 1 and 602 [Corrected]

1. On page 9929, in the third column, in the authority citation, in the fourth line, “1502.,”should read “1502.”

2. On the same page, in the table, in the third column, under the heading “Add”, in the ninth line, remove the word “sentence”.

3. On the same page, in the same table, in the same column, in the twelfth line, remove the word “sentence”.

§1.338-4 [Corrected]

4. On page 9939, in the second column, in the beginning of the second paragraph, the equation

ADSP = G + L + TR “ (ADSP−B)

should read

ADSP = G + L + TR “ (ADSP−B).

[FR Doc. C1-981 Filed 3-29-01; 8:45 am]

BILLING CODE 1505-01-D